DEPARTMENT OF VETERANS AFFAIRS

Veterans Rural Health Advisory Committee, Notice of Meeting

The Department of Veterans Affairs (VA) gives notice under the Federal Advisory Committee Act, 5 U.S.C. Ch. 10., that the Veterans Rural Health Advisory Committee will hold its face-to-face meeting at the Department of Veterans Affairs, 811 Vermont Ave. NW, 5th floor Room #5198, Washington, DC 20009 on Wednesday, October 29, 2025. The meeting will be held at 8:00 a.m., Eastern Standard Time (EST) and adjourn at 5:30 p.m. (EST). The meeting sessions are open to the public. Additionally, a meeting link is available for individuals who cannot attend in person and would like to join online The meeting can be accessed through Microsoft Teams via http://bit.ly/4flHJID or by telephone, +1-872-701-0185 Conference ID 442 894 394#.

The purpose of the Committee is to advise the Secretary of VA on rural health care issues affecting Veterans. The Committee examines programs and policies that impact the delivery of VA rural health care to Veterans and discusses ways to improve and enhance VA access to rural health care services for Veterans.

The agenda will include updates from Department leadership; the Executive Director, VA Office of Rural Health; and the Committee Chair; as well as presentations by subject-matter experts on general rural health care access.

Time will be allocated for receiving public comments on October 29, 2025, at approximately 4:30 p.m. EST. This meeting is open to the public and will include time reserved for public comments at the end of the meeting. The public comment period will be 30 minutes. Individual stakeholders will be given 3 to 5 minutes to express their comments. Interested parties should contact Mr. Paul Boucher, by email at Paul.Boucher@va.gov, at (207) 458-7129, or send by mail to 810 Vermont Avenue NW (12RH), ATTN: VRHAC Committee, Washington, DC 20420 no later than close of business on October 14, 2025. Individuals wishing to speak are invited to submit a 1-2-page summary of their comment for inclusion in the official meeting record no later than close of business on October 14, 2025. Any member of the public seeking additional information should contact Mr. Boucher at the email address noted above or 207-458-7129.

Dated: September 24, 2025.
LaTonya L. Small,
Federal Advisory Committee Management Officer.

[FR Doc. 2025-18698 Filed 9-25-25; 8:45 am]

BILLING CODE 8320-01-P